DEPARTMENT OF COMMERCE

International Trade Administration

A-351-824

Silicomanganese From Brazil: Notice of Rescission of Antidumping Duty Administrative Review

AGENCY: Import Administration, International Trade Administration, Department of Commerce.

SUMMARY: In response to a request from Eramet Marietta Inc., a domestic producer of silicomanganese, the Department of Commerce initiated an administrative review of the antidumping duty order on silicomanganese from Brazil. The period of review is December 1, 2004, through November 30, 2005. We are now rescinding this review because the sole respondent reported that it had no sales or shipments to the United States during the period of review.

EFFECTIVE DATE: July 25, 2006.

FOR FURTHER INFORMATION CONTACT: Yang Jin Chun at (202) 482-5760 or Dmitry Vladimirov at (202) 482-0665, AD/CVD Operations, Office 5, Import Administration, International Trade Administration, U.S. Department of Commerce, 14th Street and Constitution Avenue, NW, Washington, DC 20230.

SUPPLEMENTARY INFORMATION: The Department of Commerce (the Department) published an antidumping duty order on silicomanganese from Brazil on December 22, 1994. See Notice of Antidumping Duty Order: Silicomanganese from Brazil, 59 FR 66003 (December 22, 1994). On December 1, 2005, the Department published a notice of opportunity to request an administrative review of the antidumping duty order for the period of review covering December 1, 2004, through November 30, 2005. See Notice of Opportunity to Request Administrative Review of Antidumping or Countervailing Duty Order, Finding, or Suspended Investigation, 70 FR 72109 (December 1, 2005). In accordance with 19 CFR 351.213(b)(1), the petitioner, Eramet Marietta Inc., requested an administrative review of this order with respect to the following affiliated respondents: Rio Doce Manganês S.A., Companhia Paulista de Ferro-Ligas, and Urucum Mineração S.A. (collectively RDM/CPFL).

The Department published the notice of the initiation of the administrative review of the antidumping duty order on silicomanganese from Brazil on February 1, 2006. See Initiation of Antidumping and Countervailing Duty Administrative Reviews and Request for Revocation in Part, 71 FR 5241 (February 1, 2006). In response to the Department's questionnaire, RDM/CPFL notified the Department that the company had no entries, exports, or sales of the subject merchandise during the period of review. The Department published the notice of its intent to rescind the administrative review of the antidumping duty order on silicomanganese from Brazil on May 19, 2006. See Silicomanganese from Brazil: Notice of Intent to Rescind Antidumping Duty Administrative Review, 71 FR 29123 (May 19, 2006) (Notice of Intent to Rescind). The Department based its intent to rescind the review on a customs data query that found no evidence of entries or shipments of the subject merchandise by RDM/CPFL during the period of review. See Notice of Intent to Rescind, at 29124.

Rescission of the Administrative Review

The Department will rescind an administrative review with respect to an exporter or producer if the Department concludes that there were no entries, exports, or sales of the subject merchandise during the period of review. See 19 CFR 351.213(d)(3). The Department gave interested parties 15 days from the date of publication of the Notice of Intent to Rescind to comment on its intent to rescind this review. No interested party has submitted comments on our intent to rescind this review within the given time period. Accordingly, we are rescinding this administrative review.

In accordance with the Department's clarification of its assessment policy (see Antidumping and Countervailing Duty Proceedings: Assessment of Antidumping Duties, 68 FR 23954 (May 6, 2003)), in the event any entries were made during the period of review through intermediaries under U.S. Customs and Border Protection (CBP) case numbers for RDM/CPFL, the Department will instruct CBP to liquidate such entries at the all-others rate in effect on the date of entry.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: July 18, 2006.
Stephen J. Claeys,
Deputy Assistant Secretary for Import Administration.

[FR Doc. E6-11837 Filed 7-24-06; 8:45 am]

BILLING CODE 3510-DS-S